DEPARTMENT OF COMMERCE

National Oceanic and Atmospheric Administration

50 CFR Part 665

[Docket No. 110826540-2069-02]

RIN 0648-XA674

Western Pacific Fisheries; 2012 Annual Catch Limits and Accountability Measures

AGENCY: National Marine Fisheries Service (NMFS), National Oceanic and Atmospheric Administration (NOAA), Department of Commerce.

ACTION: Final specifications.

SUMMARY: In this rule, NMFS specifies annual catch limits for western Pacific bottomfish, crustacean, precious coral, and coral reef ecosystem fisheries, and accountability measures to correct or mitigate any overages of catch limits. The catch limits and accountability measures support the long-term sustainability of fishery resources of the U.S. Pacific Islands.

DATES: The final specifications are effective March 8, 2012 through December 31, 2012.

ADDRESSES: Copies of the fishery ecosystem plans are available from the Western Pacific Fishery Management Council (Council), 1164 Bishop St., Suite 1400, Honolulu, HI 96813, tel. (808) 522-8220, fax (808) 522-8226, or www.wpcouncil.org. Copies of the environmental assessments and findings of no significant impact for this action are available from www.regulations.gov, or Michael D. Tosatto, Regional Administrator, NMFS Pacific Islands Region (PIR), 1601 Kapiolani Blvd., 1110, Honolulu, HI 96814.

FOR FURTHER INFORMATION CONTACT: Jarad Makaiau, NMFS PIR Sustainable Fisheries, (808) 944-2108.

SUPPLEMENTARY INFORMATION: On January 3, 2012, NMFS published a request for public comments (77 FR 66) on proposed specifications that are finalized here. Additional background information on this action is found in the preamble to the proposed specifications, and is not repeated here.

Through this action, NMFS specifies annual catch limits (ACLs) and accountability measures (AM) for bottomfish, crustacean, precious coral, and coral reef ecosystem fishery management unit species (MUS) in the U.S. Exclusive Economic Zone (EEZ, generally 3-200 nm from shore) around American Samoa, Guam, the Commonwealth of the Northern Mariana Islands (CNMI), and Hawaii. The ACLs are specified for the 2012 fishing year, which begins on January 1 and ends on December 31, except for precious coral fisheries, which began on July 1, 2011, and end on June 30, 2012.

NMFS is not specifying ACLs at this time for bottomfish, crustacean, precious coral, or coral reef ecosystem MUS in the Pacific Remote Island Areas, because commercial fishing is prohibited out to 50 nautical miles by Presidential Proclamation 8336 (establishing the Pacific Remote Island Marine National Monument (74 FR 1565, January 12, 2009)), and because there is no habitat to support such fisheries in the EEZ beyond the monument boundaries. The Council is separately working on a draft amendment to the relevant FEP containing fishery management measures for the Pacific Remote Islands Marine National Monument (as well as the Rose Atoll and Mariana Trench Marine National Monuments). Additionally, NMFS is not specifying ACLs for MUS that are currently subject to Federal fishing moratoria or prohibitions. These include all species of gold coral (73 FR 47098, August 13, 2008), all species of deepwater precious corals at the Westpac Bed Refugia (75 FR 2198, January 14, 2010), and the three Hawaii seamount groundfish: pelagic armorhead, alfonsin, and raftfish (75 FR 69015, November 10, 2010). The current prohibitions on fishing for these MUS serve as a functional equivalent of an ACL of zero.

2012 Annual Catch Limit Specifications

Table 1—American Samoa
Fishery | Management unit species | ACLs
Bottomfish | Bottomfish multi-species stock complex | 99,200 lb (44,996 kg).
Crustacean | Deepwater Shrimp | 80,000 lb (36,287 kg).
| Spiny Lobster | 2,300 lb (1,043 kg).
| Slipper Lobster | 30 lb (14 kg).
| Kona Crab | 3,200 lb (1,451 kg).
Precious Coral | Black Coral | 1,742 lb (790 kg).
| Precious Corals in the American Samoa Exploratory Area | 2,205 lb (1,000 kg).
Coral Reef Ecosystem | Acanthuridae—surgeonfish | 19,516 lb (8,852 kg).
| Lutjanidae—snappers | 18,839 lb (8,545 kg).
| Selar crumenophthalmus—atule or bigeye scad | 8,396 lb (3,808 kg).
| Mollusks—turbo snail; octopus; giant clams | 16,694 lb (7,572 kg).
| Carangidae—jacks | 9,490 lb (4,305 kg).
| Lethrinidae—emperors | 7,350 lb (3,334 kg).
| Scaridae—parrotfish | 8,145 lb (3,695 kg).
| Serranidae—groupers | 5,600 lb (2,540 kg).
| Holocentridae—squirrelfish | 2,585 lb(1,173 kg).
| Mugilidae—mullets | 2,857 lb (1,296 kg).
| Crustaceans—crabs | 2,248 lb (1,020 kg).
| Bolbometopon muricatum—bumphead parrotfish | 235 lb (107 kg).
| Cheilinus undulatus—Humphead (Napoleon) wrasse | 1,743 lb (791 kg).
| Carcharhinidae—Reef Sharks | 1,309 lb (594 kg).
| All Other CREMUS combined | 18,910 lb (8,577 kg).

Table 2—Marianas Archipelago—Guam
Fishery | Management unit species | ACLs
Bottomfish | Bottomfish multi-species stock complex | 48,200 lb (21,863 kg).
Crustaceans | Deepwater Shrimp | 48,488 lb (21,994 kg).
| Spiny Lobster | 2,700 lb (1,225 kg).
| Slipper Lobster | 20 lb (9 kg).
| Kona Crab | 1,900 lb (862 kg).
Precious Coral | Black Coral | 700 kg (1,543 lb).
| Precious Corals in the Guam Exploratory Area | 1,000 kg (2,205 lb).
Cora Reef Ecosystem | Acanthuridae—surgeonfish | 70,702 lb (32,070 kg).
| Carangidae—jacks | 45,377 lb (20,583 kg).
| Selar crumenophthalmus—atulai or bigeye scad | 56,514 lb (25,634 kg).
| Lethrinidae—emperors | 38,720 lb (17,563 kg).
| Scaridae—parrotfish | 28,649 lb (12,995 kg).
| Mullidae—goatfish | 25,367 lb (11,506 kg).
| Mollusks—turbo snail; octopus; giant clams | 21,941 lb (9,952 kg).
| Siganidae—rabbitfish | 26,120 lb (11,848 kg).
| Lutjanidae—snappers | 17,726 lb (8,040 kg).
| Serranidae—groupers | 17,958 lb (8,146 kg).
| Mugilidae—mullets | 15,032 lb (6,818 kg).
| Kyphosidae—chubs/rudderfish | 13,247 lb (6,009 kg).
| Crustaceans—crabs | 5,523 lb (2,505 kg).
| Holocentridae—squirrelfish | 8,300 lb (3,765 kg).
| Algae | 5,329 lb (2,417 kg).
| Labridae—wrasses | 5,195 lb (2,356 kg).
| Bolbometopon muricatum—bumphead parrotfish | 797 lb (362 kg) (CNMI and Guam combined).
| Cheilinus undulatus—Humphead (Napoleon) wrasse | 1,960 lb (889 kg).
| Carcharhinidae—Reef Sharks | 6,942 lb (3,149 kg).
| All Other CREMUS combined | 83,214 lb (37,745 kg).

Table 3—Marianas Archipelago—CNMI
Fishery | Management unit species | ACLs
Bottomfish | Bottomfish multi-species stock complex | 182,500 lb (82,781 kg).
Crustacean | Deepwater Shrimp | 275,570 lb (124,996 kg).
| Spiny Lobster | 5,500 lb (2,495 kg).
| Slipper Lobster | 60 lb (27 kg).
| Kona Crab | 6,300 lb (2,858 kg).
Precious Coral | Black Coral | 2,100 kg (4,630 lb).
| Precious Corals in the CNMI Exploratory Area | 1,000 kg (2,205 lb).
Coral Reef Ecosystem | Lethrinidae—emperors | 27,466 lb (12,458 kg).
| Carangidae—jacks | 21,512 lb (9,758 kg).
| Acanthuridae—surgeonfish | 6,884 lb (3,123 kg).
| Selar crumenophthalmus—atulai or bigeye scad | 7,459 lb (3,383 kg).
| Serranidae—groupers | 5,519 lb (2,503 kg).
| Lutjanidae—snappers | 3,905 lb (1,771 kg).
| Mullidae—goatfish | 3,670 lb (1,665 kg).
| Scaridae—parrotfish | 3,784 lb (1,716 kg).
| Mollusks—turbo snail; octopus; giant clams | 4,446 lb (2,017 kg).
| Mugilidae—mullets | 3,308 lb (1,500 kg).
| Siganidae—rabbitfish | 2,537 lb (1,151 kg).
| Bolbometopon muricatum—bumphead parrotfish | 797 lb (362 kg) (CNMI and Guam combined).
| Cheilinus undulatus—Humphead (Napoleon) wrasse | 2,009 lb (911 kg).
| Carcharhinidae—Reef Sharks | 5,600 lb (2,540 kg).
| All Other CREMUS combined | 9,820 lb (4,454 kg).

Table 4—Hawaii
Fishery | Management unit species | ACLs
Bottomfish | Non-Deep 7 Bottomfish | 135,000 lb (61,235 kg).
Crustacean | Deepwater Shrimp | 250,773 lb (113,749 kg).
| Spiny Lobster | 10,000 lb (4,536 kg).
| Slipper Lobster | 280 lb (127 kg).
| Kona Crab | 27,600 lb (12,519 kg).
Precious Coral | Auau Channel Black Coral | 2,500 kg (5,512 lb).
| Pink/Bamboo Coral; Makapuu Bed | 2,205/551 lb (1,000/250 kg).
| Pink/Bamboo Coral; 180 Fathom Bank | 489/123 lb (222/56 kg).
| Pink/Bamboo Coral; Brooks Bank | 979/245 lb (444/111 kg).
| Pink/Bamboo Coral; Kaena Point Bed | 148/37 lb (67/17 kg).
| Pink/Bamboo Coral; Keahole Bed | 148/37 lb (67/17 kg).
| Precious Corals in the Hawaii Exploratory Area | 2,205 lb (1,000 kg).
Coral Reef Ecosystem | Selar crumenophthalmus—akule, bigeye scad | 651,292 lb (295,421 kg).
| Decapterus macarellus—opelu, mackerel scad | 393,563 lb (178,517 kg).
| Carangidae—jacks | 193,423 lb (87,735 kg).
| Mullidae—goatfish | 125,813 lb (57,068 kg).
| Acanthuridae—surgeonfish | 80,545 lb (36,535 kg).
| Lutjanidae—snappers | 65,102 lb (29,530 kg).
| Holocentridae—squirrelfish | 44,122 lb (20,013 kg).
| Mugilidae—mullets | 41,112 lb (18,648 kg).
| Mollusks—turbo snails; octopus; giant clams | 28,765 lb (13,048 kg).
| Scaridae—parrotfish | 33,326 lb (15,116 kg).
| Crustaceans—crabs | 20,686 lb (9,383 kg).
| Carcharhinidae—Reef Sharks | 111,566 lb (50,605 kg).
| All Other CREMUS combined | 142,282 lb (64,538 kg).

NMFS and the Council, relying on information from local resource management agencies in American Samoa, Guam, the CNMI, and Hawaii, will conduct a post-season accounting of the annual catch for each stock and stock complex immediately after the end of the fishing year. If an ACL is exceeded, the Council will take action in accordance with 50 CFR 600.310(g), which may include a recommendation that NMFS reduce the ACL for the subsequent fishing year by the amount of the overage, or other measure, as appropriate.

Comments and Responses

The comment period for the proposed specifications ended on January 18, 2012. NMFS received no comments, and so is adopting the specifications unchanged from the proposal.

Changes From the Proposed Specifications

There are no changes in the final specifications.

Classification

The Regional Administrator, NMFS PIR, determined that this action is necessary for the conservation and management of Pacific Islands fishery resources, and that it is consistent with the Magnuson-Stevens Fishery Conservation and Management Act and other applicable laws.

The Chief Counsel for Regulation of the Department of Commerce certified to the Chief Counsel for Advocacy of the Small Business Administration during the proposed specification stage that this action would not have a significant economic impact on a substantial number of small entities. The factual basis for the certification was published in the proposed specifications and is not repeated here. No comments were received regarding this certification. As a result, a regulatory flexibility analysis was not required, and none was prepared.

This action is exempt from review under Executive Order 12866.

Authority: 16 U.S.C. 1801 et seq.

Dated: February 2, 2012.
Alan D. Risenhoover,
Acting Deputy Assistant Administrator, for Regulatory Programs, National Marine Fisheries Service.

[FR Doc. 2012-2753 Filed 2-6-12; 8:45 am]

BILLING CODE 3510-22-P